Executive Order 14282 of April 23, 2025

Transparency Regarding Foreign Influence at American Universities

By the authority vested in me as President by the Constitution and the laws of the United States of America, it is hereby ordered:

Section 1. Purpose and Policy. Section 117 of the Higher Education Act of 1965, 20 U.S.C. 1011f, requires institutions of higher education to report significant sources of foreign funding. But, because section 117 has not been robustly enforced, the true amounts, sources, and purposes of foreign money flowing to American campuses are unknown. From 2010 to 2016, according to one study, universities failed to disclose more than half of reportable foreign gifts. Even when foreign funding is reported, its true sources are often hidden. Protecting American educational, cultural, and national security interests requires transparency regarding foreign funds flowing to American higher education and research institutions. During my first term, the Department of Education opened investigations on 19 campuses from 2019-2021, which led universities to report $6.5 billion in previously undisclosed foreign funds. Yet the prior administration undid this work, moving the Department of Education's specialized investigatory work on foreign funds to a unit ill-equipped to perform it, undermining investigations, and hindering public access to information on foreign gifts and contracts. It is the policy of my Administration to end the secrecy surrounding foreign funds in American educational institutions, protect the marketplace of ideas from propaganda sponsored by foreign governments, and safeguard America's students and research from foreign exploitation.

Sec. 2. Robust Enforcement to Prevent Harm to American Interests. The Secretary of Education (Secretary) shall take all appropriate actions to enforce the requirements of section 1011f of title 20, United States Code, including by working with the Attorney General and the heads of other executive departments, agencies, and offices, where appropriate, to require complete and timely disclosure by higher education institutions of foreign funding. These actions shall include the following:

(a) the Secretary shall take appropriate steps to reverse or rescind any actions by the prior administration that permit higher education institutions to maintain improper secrecy regarding their foreign funding;

(b) the Secretary shall take appropriate steps to require universities to more specifically disclose details about foreign funding, including the true source and purpose of the funds;

(c) the Secretary shall provide the American people with greater access to information about foreign funding to higher education institutions; and

(d) the Secretary and the Attorney General shall hold accountable higher education institutions that fail to comply with the law concerning disclosure of foreign funding. In furtherance of this directive, the Secretary shall work with the heads of other executive departments, agencies, and offices, where appropriate, to conduct audits and investigations as appropriate and where necessary to ensure compliance with the law concerning disclosure of foreign funding and shall seek enforcement through appropriate action by the Attorney General.

Sec. 3. Compliance by Federal Funding Recipients. The Secretary of Education and the heads of other appropriate executive departments and agencies shall take appropriate action, as consistent with applicable law, to prospectively ensure that certification of compliance by higher education institutions with 20 U.S.C. 1011f and any other applicable foreign funding disclosure requirements is material for purposes of 31 U.S.C. 3729 and for receipt of appropriate Federal grant funds, which shall not be provided in cases of noncompliance with 20 U.S.C. 1011f and any other applicable foreign funding disclosure requirements.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) If any provision of this order, or the application of any provision to any agency, person or circumstance, is held to be invalid, the remainder of this order and the application of its provisions to any other agencies, persons or circumstances shall not be affected thereby.

THE WHITE HOUSE,

April 23, 2025.

[FR Doc. 2025-07379

Filed 4-25-25; 8:45 am]

Billing code 3395-F4-P